DEPARTMENT OF TRANSPORTATION

Federal Highway Administration

Environmental Impact Statement, Trinity County, California

AGENCY: Federal Highway Administration (FHWA), Department of Transportation (DOT).

ACTION: Notice of intent.

SUMMARY: The Federal Highway Administration (FHWA), as lead agency, in cooperation with the Trinity County Department of Transportation (TCDOT) and the California Department of Transportation (CALTRANS), intends to prepare an Environmental Impact Statement (EIS) in accordance with the National Environmental Policy Act of 1969 (NEPA). This is based on a proposal by TCDOT to construct a local connector roadway project providing residents with local connections to existing County roads and minimizing the travel dependency on SR-299 through Weaverville. FHWA intends to process an EIS for this project.

DATES AND ADDRESSES: To ensure that the full range of issues related to the proposed improvements are addressed and all significant issues identified, comments and suggestions are invited from all interested parties. Written comments or questions concerning the proposed action and the EIS should be directed to FHWA and/or TCDOT at the addresses provided below. Written comments on the scope of alternatives and impacts to be considered should be submitted not later than thirty (30) calendar days from the date of this publication. Scoping Meeting: A public scoping meeting was held November 14, 2001 and a subsequent scoping meeting may be offered to agencies on request. The public has been notified through local newspapers, postings in public places, and through other public notification methods.

FOR FURTHER INFORMATION CONTACT: R.C. Slovensky, Federal Highway Administration (FHWA), 980 Ninth Street, Suite 400, Sacramento, CA 95814-2724, (916) 498-5774, or fax (916) 498-5008 and/or Jan Smith, TCDOT, PO. Box 2490, Weaverville, CA 96093-2490 (530) 623-1365, or fax (530) 623-5312.

SUPPLEMENTARY INFORMATION: The proposed new roadway, beginning at or near the intersection of Industrial Park Road and State Route (SR)-299, southeast of the community of Weaverville, and intersecting with SR-299 approximately 2 miles northwest of the community of Weaverville, is intended to provide residents with local connections to existing County roads, minimizing the travel dependency on SR-299 and providing an alternative means of travelling in and around Weaverville. Accordingly, the project will reduce traffic congestion and delays along SR-299 through the historic district in downtown Weaverville and at key intersections with SR-3 and Washington Street. The project involves construction of a new two-lane undivided arterial roadway with 12-foot lanes (3.6m) and 4-foot (1.2m) paved shoulders on both sides that will accommodate bicycle traffic. The project will have a 55 mph design speed for Design Hourly (traffic) Volume projected for Year 2030. Up to six existing residential County roads may be connected to the proposed West Connector. A total of three alternative alignments will be examined initially, although other alignments or alignment configurations may be considered. Depending on the ultimate project alignment and configuration, the total project length will vary from 3.1 miles (5.0k) to 4.0 miles (6.4k), including up to 4 stream crossings. Alternative connecting designs for the western project terminus include a grade-separated interchange, and an at-grade “T” intersection.

Issues to be addressed in the EIS include socioeconomic issues related to noise and safety, impacts on the rural character of affected neighborhoods, and effects on downtown business. Cultural resources associated with historic mining activities are present in the project area. Elements of a proposed trail system follow the same alignments as the West Connector, and coordination with the Weaverville Basin Trails Committee will be required to resolve any conflicts. The east end of the alignment will traverse a Natural Resources Conservation Service Wetland Reserve Easement through a corridor dedicated for the West Connector. The project will involve construction activities within and adjacent to West Weaver Creek, which is potential habitat for State and Federally listed fish, amphibians, birds, and other wildlife species.

Issued on January 8, 2002.
R.C. Slovensky,
Senior Transportation Engineer, District Operations-North—California Division, Federal Highway Administration.

[FR Doc. 02-850 Filed 1-11-02; 8:45 am]

BILLING CODE 34910-22-M